COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) to the Procurement List that will be furnished by nonprofit agencies employing persons who are blind or have other severe disabilities and deletes product(s) and service(s) previously furnished by such agencies.

DATES: Comments must be received on or before: October 3, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

1095-01-600-0972—Knife, Combat

Designated Source of Supply: DePaul Industries, Portland, OR

Contracting Activity: DEFENSE LOGISTICS AGENCY, DLA LAND AND MARITIME

List Designation: C-List

Mandatory for: 100% of the requirement of the Department of Defense

Deletions

The following product(s) and service(s) are proposed for deletion from the Procurement List:

Product(s)

NSN(s)—Product Name(s):

7045-01-370-9678—Mini-Cartridge, Data, 120 MB, 3-½”

Designated Source of Supply: North Central Sight Services, Inc., Williamsport, PA

Contracting Activity: DLA TROOP SUPPORT, PHILADELPHIA, PA

Service(s)

Service Type: Janitorial Services

Mandatory for: Department of Veteran Affairs, Ventura Vet Center, 790 East Santa Clara Street, Suite 100, Ventura, CA, 790 East Santa Clara Street, Ventura, CA

Designated Source of Supply: The ARC of Ventura County, Inc., Ventura, CA

Contracting Activity: VETERANS AFFAIRS, DEPARTMENT OF, 262-NETWORK CONTRACT OFFICE 22

Michael R. Jurkowski,
Acting Director, Business Operations.

[FR Doc. 2021-19101 Filed 9-2-21; 8:45 am]

BILLING CODE 6353-01-P